DEPARTMENT OF JUSTICE

Parole Commission

[6P04091]

Public Announcement; Sunshine Act Meeting

Pursuant to the Government in the Sunshine Act (Pub. L. 94-409) [5 U.S.C. Section 552b].

Agency Holding Meeting: Department of Justice, United States Parole Commission.

Time and Date: 10 a.m., Tuesday, May 13, 2008.

Place: 5550 Friendship Boulevard, Fourth Floor, Chevy Chase, Maryland 20815.

Status: Open.

Matters To Be Considered: The following matters have been placed on the agenda for the open Parole Commission meeting:

1. Approval of Minutes of January, February and March 2008 Quarterly Business Meeting.

2. Reports from the Chairman, Commissioners, Chief of Staff, and Section Administrators.

3. YRA Misdemeanor Offenders—Use of Misconduct Reports to Issue Set Aside Certificates.

Agency Contact: Thomas W. Hutchison, Chief of Staff, United States Parole Commission, (301) 492-5990.

Dated: May 5, 2008.
Rockne J. Chickinell,
General Counsel, U.S. Parole Commission.

[FR Doc. E8-10406 Filed 5-12-08; 8:45 am]

BILLING CODE 4410-31-M